DEPARTMENT OF TRANSPORTATION

Federal Aviation Administration

14 CFR Part 121

[Docket No. FAA-2006-26139; Notice No. 06-17]

Age 60 Aviation Rulemaking Committee; Request for Comments

AGENCY: Federal Aviation Administration (FAA), DOT.

ACTION: Request for comments.

SUMMARY: In November 2006, the International Civil Aviation Organization (ICAO) will adopt an amendment to increase the “upper age limit” for airline pilots up to age 65 provided another crewmember pilot is under age 60. On September 27, 2006, Administrator Blakey established an Aviation Rulemaking Committee (ARC) on the Age 60 issue. One of its tasks is to recommend whether the United States should adopt the new ICAO standard. The FAA and the ARC are requesting comments from the public about whether the FAA should adopt the ICAO standard and any issues surrounding adopting or not adopting the standard.

DATES: Send your comments on or before November 15, 2006.

ADDRESSES: You may send comments [identified by Docket Number FAA-2006-26139] using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

Privacy: We will post all comments we receive, without change, to http://dms.dot.gov, including any personal information you provide. For more information, see the Privacy Act discussion in the SUPPLEMENTARY INFORMATION section of this document.

Docket: To read comments received, go to http://dms.dot.gov at any time or to Room PL-401 on the plaza level of the Nassif Building, 400 Seventh Street, SW., Washington, DC, between 9 a.m. and 5 p.m., Monday through Friday, except Federal holidays.

FOR FURTHER INFORMATION CONTACT: Dr. Fred Tilton, Federal Air Surgeon, Office of Aerospace Medicine, Federal Aviation Administration, 800 Independence Avenue, SW., Washington, DC 20591; telephone: 202-267-3537.

SUPPLEMENTARY INFORMATION: Comments Invited. The FAA invites interested persons to participate in this request for comments by submitting written comments, data, or views. The most helpful comments clearly explain the reason for any position, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Background

Section 121.383(c) of Title 14 of the United States Code (the Age 60 Rule) prohibits any air carrier from using the services of any person as a pilot, and prohibits any person from serving as a pilot, on an airplane engaged in operations under part 121 if that person has reached his or her 60th birthday. The FAA adopted the Age 60 Rule in 1959. Part 121 covers operations of large commercial passenger aircraft, smaller propeller aircraft with 10 or more passenger seats, and common carriage operations of all-cargo aircraft with a payload capacity of 7500 pounds.

In November 2006, the International Civil Aviation Organization (ICAO) will adopt Amendment 167 to increase the “upper age limit” for airline pilots up to age 65 provided another crewmember pilot is under age 60. The Age 60 ARC provides a forum for the U.S. aviation community to discuss the new ICAO standard, make recommendations as to whether the United States should adopt that standard, and determine what actions would be necessary if FAA were to change the regulation to meet the new ICAO standard. As part of the ARC's review and recommendation, it and the FAA are soliciting comments from the public on whether the FAA should adopt the ICAO standard and any issues surrounding adopting or not adopting the standard.

Issued in Washington, DC, on October 19, 2006.
James R. Fraser,
Acting Federal Air Surgeon.

[FR Doc. E6-17851 Filed 10-24-06; 8:45 am]

BILLING CODE 4910-13-P